DEPARTMENT OF LABOR

Occupational Safety and Health Administration

[Docket No. OSHA-2022-0011]

Maritime Advisory Committee on Occupational Safety and Health (MACOSH); Charter Renewal

AGENCY: Occupational Safety and Health Administration (OSHA), Labor.

ACTION: Renewal of the MACOSH charter.

SUMMARY: The Acting Secretary of Labor (Secretary) has renewed the charter for MACOSH.

FOR FURTHER INFORMATION CONTACT:

For press inquiries: Mr. Frank Meilinger, Director, OSHA Office of Communications, U.S. Department of Labor; telephone: (202) 693-1999; email: meilinger.francis2@dol.gov.

For general information: Ms. Amy Wangdahl, Director, Office of Maritime and Agriculture, Directorate of Standards and Guidance, OSHA, U.S. Department of Labor; telephone: (202) 693-2066; email: wangdahl.amy@dol.gov.

SUPPLEMENTARY INFORMATION: The Acting Secretary has renewed the MACOSH charter. The charter will expire two years from its filing date.

MACOSH is established in section 7(d) of the Occupational Safety and Health Act of 1970 (OSH Act) (29 U.S.C. 651, 656) to advise, the Secretary of Labor through the Assistant Secretary of Labor for Occupational Safety and Health (Assistant Secretary) in order to inform the administration of the OSH Act with respect to the maritime industry. The Assistant Secretary may seek the advice of this Committee on activities related to priorities set by the Agency, including: worker training, education, and assistance; setting and enforcing standards; and assuring safe and healthful working conditions in the maritime industry.

MACOSH is a non-discretionary advisory committee of indefinite duration, operating in accordance with the Federal Advisory Committee Act (FACA) (5 U.S.C. 1001, et seq.), its implementing regulations (41 CFR part 102-3), chapter 1-900 of the Department of Labor Manual Series (March 25, 2022) and OSHA's regulations on Advisory Committees (29 CFR part 1912). Pursuant to FACA (5 U.S.C. 1013(b)(2)), the MACOSH charter must be renewed every two years.

The new MACOSH charter is available to read or download at https://www.regulations.gov (Docket No. OSHA-2022-0011), the federal rulemaking portal. The charter also is available on the MACOSH page on OSHA's web page at https://www.osha.gov and at the OSHA Docket Office, N-3653, U.S. Department of Labor, 200 Constitution Avenue NW, Washington, DC 20210; telephone (202) 693-2350. In addition, the charter is available for viewing or download at the Federal Advisory Committee Act Database at https://www.facadatabase.gov.

Authority and Signature

James S. Frederick, Deputy Assistant Secretary of Labor for Occupational Safety and Health, authorized the preparation of this notice under the authority granted by 29 U.S.C. 656; 5 U.S.C.1001 et seq.; 29 CFR part 1912; 41 CFR 102-3; and Secretary of Labor's Order No. 8-2020 (85 FR 58393, Sept. 18, 2020).

Signed at Washington, DC, on November 14, 2024.
James S. Frederick,
Deputy Assistant Secretary of Labor for Occupational Safety and Health.

[FR Doc. 2024-27261 Filed 11-20-24; 8:45 am]

BILLING CODE 4510-26-P